DEPARTMENT OF ENERGY

Federal Energy Regulatory Commission

[Docket Nos. EG08-71-000; EG08-72-000; EG08-73-000; EG08-74-000; FC08-3-000; FC08-4-000; FC08-5-000]

UniSource Energy Development Company, Locust Ridge II, LLC, Lempster Wind, LLC, Happy Jack Windpower, LLC,Arasmeta Captive Power Company Private Limited, Sitapuram Power Limited, Regency Power Corporation Private Limited; Notice of Effectiveness of Exempt Wholesale Generator or Foreigen Utility Company Status

September 3, 2008.

Take notice that during the month of March 2008, the status of the above captioned entities as Exempt Wholesale Generators or Foreign Utility Companies became effective by operation of the Commission's regulations 18 CFR 366.7(a).

Kimberly D. Bose,
Secretary.

[FR Doc. E8-20858 Filed 9-8-08; 8:45 am]

BILLING CODE 6717-01-P